DEPARTMENT OF HOMELAND SECURITY

Transportation Security Administration

[Docket No. TSA-2005-20485]

Biometrics Guidance

AGENCY: Transportation Security Administration (TSA), DHS.

ACTION: Notice of public meeting and request for comments.

SUMMARY: Recent legislation directs TSA to issue guidance for the use of biometric technology in connection with access control systems in the nation's airports by March 31, 2005. The legislation requires TSA to consult with representatives of industry and the National Institute of Standards and Technology (NIST) in developing the guidance. TSA believes it is important to give all stakeholders and other interested parties an opportunity to learn about the biometric guidance and to comment on the initial draft. Therefore, TSA is scheduling a public meeting to discuss the guidance. The public meeting will be held on March 11, 2005, at 9:30 a.m.

DATES: The public meeting will be on March 11, 2005 in Arlington, VA. The meeting will begin at 9:30 a.m. Persons not able to attend a meeting are invited to provide written comments, which must be received by March 18, 2005.

ADDRESSES: The public meeting will be held at the Transportation Security Administration, 1st Floor Auditorium, 601 South 12th St., Arlington, Virginia 22202. Participants should check in at the Visitor Center and you will be escorted to the meeting.

Persons unable to attend the meeting may submit comments, identified by the TSA docket number to this rulemaking, using any one of the following methods:

Comments Filed Electronically: You may submit comments through the docket Web site at http://dms.dot.gov. Please be aware that anyone is able to search the electronic form of all comments received into any of our dockets by the name of the individual submitting the comment (or signing the comment, if submitted on behalf of an association, business, labor union, etc.). You may review the applicable Privacy Act Statement published in the Federal Register on April 11, 2000 (65 FR 19477), or you may visit http://dms.dot.gov.

You also may submit comments through the Federal eRulemaking portal at http://www.regulations.gov.

Comments Submitted by Mail, Fax, or In Person: Address or deliver your written, signed comments to the Docket Management System, U.S. Department of Transportation, Room Plaza 401, 400 Seventh Street, SW., Washington, DC 20590-0001; Fax: 202-493-2251.

Comments that include trade secrets, confidential commercial or financial information, or sensitive security information (SSI) should not be submitted to the public regulatory docket.¹ Please submit such comments separately from other comments on the guidance. Comments containing trade secrets, confidential commercial or financial information, or SSI should be appropriately marked as containing such information and submitted by mail to Patrick Kearney, Office of Transportation Security Policy, TSA-9, Transportation Security Administration, 601 South 12th St., Arlington, VA 22202.

¹ See 49 CFR 1520.5 for a description of SSI material.

Reviewing Comments in the Docket: You may review the public docket containing comments in person in the Dockets Office between 9 a.m. and 5 p.m., Monday through Friday, except Federal holidays. The Dockets Office is located on the plaza level of the NASSIF Building at the Department of Transportation address above. Also, you may review public dockets on the Internet at http://dms.dot.gov.

See SUPPLEMENTARY INFORMATION for format and other information about comment submissions.

FOR FURTHER INFORMATION CONTACT: Chris Larrick, Office of Transportation Security Policy, TSA-9, Transportation Security Administration, 601 South 12th Street, Arlington, VA 22202; telephone: (571) 227-3635; email: Chris.Larrick@dhs.gov.

SUPPLEMENTARY INFORMATION:

Comments Invited

TSA invites interested persons to participate in the public meeting by submitting written comments, data, or views. We invite comments relating to any aspect of the biometric guidance. The areas in which TSA seeks information and comment from the industry at the public meeting are listed below in the “Specific Issues for Discussion” section. See ADDRESSES above for information on where to submit comments.

Comments that include trade secrets, confidential commercial or financial information, or SSI should not be submitted to the public regulatory docket. Please submit such comments separately from other comments on the document. Comments containing this type of information should be appropriately marked and submitted to the address specified in the ADDRESSES section. Upon receipt of such comments, TSA will not place the comments in the public docket and will handle them in accordance with applicable safeguards and restrictions on access. TSA will hold them in a separate file to which the public does not have access, and place a note in the public docket that TSA has received such materials from the commenter. If TSA receives a request to examine or copy this information, TSA would treat it as any other request under the Freedom of Information Act (FOIA) (5 U.S.C. 552) and the Department of Homeland Security's FOIA regulation found in 6 CFR part 5.

With each comment, please include your name and address, identify the docket number at the beginning of your comments, and give the reason for each comment. The most helpful comments reference a specific portion of the document, explain the reason for any recommended change, and include supporting data. You may submit comments and material electronically, in person, or by mail as provided under ADDRESSES, but please submit your comments and material by only one means. If you submit comments by mail or delivery, submit them in two copies, in an unbound format, no larger than 8.5 by 11 inches, suitable for copying and electronic filing.

If you want TSA to acknowledge receipt of your comments, include with your comments a self-addressed, stamped postcard on which the docket number appears. We will stamp the date on the postcard and mail it to you.

Except for comments containing confidential information and SSI, we will file in the public docket all comments we receive, as well as a report summarizing each substantive public contact with TSA personnel concerning this rulemaking. The docket is available for public inspection before and after the comment closing date.

We will consider all comments we receive on or before the closing date for comments. We will consider comments filed late to the extent practicable.

Availability of Draft Biometrics Guidance

You can get an electronic copy using the Internet by—

(1) Searching the Department of Transportation's electronic Docket Management System (DMS) Web page (http://dms.dot.gov/search); or

(2) Visiting TSA's Web page at http://www.tsa.gov/public.

In addition, copies are available by writing or calling the individual in the FOR FURTHER INFORMATION CONTACT section. Make sure to identify the docket number of this rulemaking.

Background

The terrorist attacks of September 11, 2001, resulted in catastrophic human casualties and property damage. In response to those attacks, Congress passed the Aviation and Transportation Security Act (ATSA), which established the Transportation Security Administration (TSA).² TSA was created as an agency within the Department of Transportation (DOT), operating under the direction of the Under Secretary of Transportation for Security. As of March 1, 2003, TSA became an agency of the Department of Homeland Security, and the Under Secretary is now the Assistant Secretary of Homeland Security (Transportation Security Administration). This Assistant Secretary position is now the organizational head of TSA, functioning as the Administrator.

² Pub. L. 107-71, November 19, 2001, 115 Stat. 597.

On December 17, 2004, the Intelligence Reform and Terrorism Prevention Act of 2004, Public Law 108-458, was enacted. Section 4011(a)(5) directed TSA to issue guidance on the use of biometric technologies at airports in consultation with representatives of the aviation industry, the biometric identifier industry, and the National Institute of Standards and Technology (NIST). The guidance must include—

• Comprehensive technical and operational system requirements and performance standards;

• A list of products and vendors that meet these requirements and standards;

• Procedures for implementing biometric systems that prevent the use of assumed identities, resolve failure to enroll, false matches, and false non-matches; and

• Best practices for incorporating biometric identifier technology into airport access control systems.

To satisfy these requirements, TSA, in coordination with representatives of the NIST, developed draft guidance and provided the draft to representatives of the biometric identifier industry and the aviation industry on February 16, 2005. In order to give other interested persons the opportunity to review and comment on the draft guidance before it is issued, TSA has decided to hold a public meeting on March 11, 2005.

Specific Issues for Discussion

There are several areas in which TSA seeks information and comment from the industry at the public meeting, which are listed below. These key issues are intended to help focus public comments on subjects that TSA must explore in order to complete the draft guidance. The comments at the meeting need not be limited to these issues, and TSA invites comments on any other aspect of the biometric guidance.

1. Activity in response to Homeland Security Presidential Directive-12 (HSPD-12) is in progress, and Federal Information Processing Standard-201 (FIPS-201) has just been released. TSA requests comments on how these activities should affect the final guidance.

2. The information content of the list of products and vendors that meet the standards in the biometrics guidance (Qualified Products List, or QPL) is subject to further review. Public input will be helpful in the decision making process (see Volume 3, Chapter 1 Management Plan, Section 5.2).

3. To support the test data analysis (at different levels of security), this plan requires the manufacturer to output full precision matching values (similarity scores, hamming distances, etc.). Also, the testing approach calls for multiple attempts to match regardless of the outcome of the first attempt, without the user being aware of the outcome. This may require more detailed understanding of specific device operation to reach a sensible testing operation. (See Biometrics Guidance Volume 3, Chapter 2—Test Plan, Section 1.5 [2])

Participation at the Meeting

The meeting is expected to last from 9:30 to 11 a.m. and to begin with TSA providing a brief overview of the biometrics guidance. Following that, members of the public will be invited to ask clarifying questions or present their views.

Anyone wishing to present an oral statement at the meeting should provide a written request to TSA no later than March 9, 2005. Such requests should be submitted by email to Chris.Larrick@dhs.gov, as listed previously in the FOR FURTHER INFORMATION CONTACT section. Speakers should keep questions brief and plan to talk for no more than 10 minutes if they are presenting comments on the guidance. TSA will prepare an agenda of speakers that will be available at the meeting. The names of those individuals whose requests to present oral statements are received after the date specified above may not appear on the written agenda. To accommodate as many questions as possible, the amount of time allocated to each speaker may be less than the amount of time requested.

Public Meeting Procedures

TSA will use the following procedures to facilitate the meeting:

(1) There will be no admission fee or other charge to attend or to participate in the meeting. The meeting will be open to all persons who are scheduled to present statements or who register between 8 and 9 on the day of the meeting. TSA will make every effort to accommodate all persons who wish to participate, but admission will be subject to availability of space in the meeting room. The meeting may adjourn early if scheduled speakers complete their statements or questions in less time than is scheduled for the meeting.

(2) An individual, whether speaking in a personal or a representative capacity on behalf of an organization, will be limited to a 10-minute statement and scheduled on a first-come, first-served basis.

(3) Any speaker prevented by time constraints from speaking will be encouraged to submit written remarks, which will be made part of the record.

(4) Representatives of TSA will preside over the meeting.

(5) The meeting will be recorded by a court reporter. Any person who is interested in purchasing a copy of the transcript should contact the court reporter directly.

(6) Statements made by TSA representatives are intended to facilitate discussion of the issues or to clarify issues. Any statement made during the meeting by a TSA representative is not intended to be, and should not be construed as, a position of TSA.

(7) The meeting is designed to solicit public views and gather additional information. No individual will be subject to cross-examination by any other participant; however, TSA representatives may ask questions to clarify a statement.

Issued in Arlington, Virginia, on February 28, 2005.
Chad Wolf,
Assistant Administrator for Transportation Security Policy.

[FR Doc. 05-4179 Filed 3-3-05; 8:45 am]

BILLING CODE 4910-62-P